DEPARTMENT OF HEALTH AND HUMAN SERVICES

Office of Inspector General

42 CFR Part 1001

Program Integrity—Medicare and State Health Care Programs

CFR Correction

In Title 42 of the Code of Federal Regulations, Part 482 to End, revised as of October 1, 2018, in § 1001.952, on pages 959 through 961, the word “beneficiary” is changed to read “recipient” in the following paragraphs: (x)(5), (y)(4), (y)(5) introductory text, (y)(5)(iii), (y)(5)(v), and (y)(11).

[FR Doc. 2019-09856 Filed 5-10-19; 8:45 am]

BILLING CODE 1301-00-D